NUCLEAR REGULATORY COMMISSION

[Docket No. 40-8903; NRC-2025-1435]

Homestake Mining Company of California; Grants Reclamation Project; Environmental Assessment and Finding of No Significant Impact

AGENCY: Nuclear Regulatory Commission.

ACTION: Notice; issuance.

SUMMARY: The U.S. Nuclear Regulatory Commission (NRC) is issuing an environmental assessment (EA) and a finding of no significant impact (FONSI) regarding a request from Homestake Mining Company (HMC) of California for approval of an amendment to NRC Materials License No. SUA-1471 to amend the cover design of the large tailings piles (LTP) to an evapotranspiration (ET) cover design at the Grants Reclamation Project (GRP) in Cibola County, New Mexico. If approved, HMC would use soil and rock material located on HMC-owned property to modify the final cover design for the LTP needed for decommissioning and reclamation of the site.

DATES: The EA and FONSI referenced in this document are available on December 12, 2025.

ADDRESSES: Please refer to Docket ID NRC-2025-1435 when contacting the NRC about the availability of information regarding this document. You may obtain publicly available information related to this document using any of the following methods:

• Federal Rulemaking Website: Go to https://www.regulations.gov and search for Docket ID NRC-2025-1435. Address questions about Docket IDs in Regulations.gov to Bridget Curran; telephone: 301-415-1003; email: Bridget.Curran@nrc.gov. For technical questions, contact the individual(s) listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Amy Minor, Office of Nuclear Material Safety and Safeguards, U.S. Nuclear Regulatory Commission, Washington, DC 20555-0001; telephone: 816-200-1454; email: Amy.Hesterminor@nrc.gov.

SUPPLEMENTARY INFORMATION:

I. Introduction

HMC is the holder of NRC Materials License No. SUA-1471 for the GRP, a former conventional uranium mill near Grants, New Mexico. On July 28, 2023, HMC submitted a request to the NRC for a license amendment that would approve the modification of the approved cover design for the LTP to an ET cover design and change to dates in three license conditions to reflect the revised decommissioning schedule. As required by part 51 of title 10 of the Code of Federal Regulations (10 CFR), “Environmental Protection Regulations for Domestic Licensing and Related Regulatory Functions,” the NRC performed an environmental assessment. Based on the results of the EA that follows, the NRC has determined not to prepare an environmental impact statement for the amendment and is issuing a FONSI.

II. Environmental Assessment

Description of the Proposed Action

The proposed Federal action is amending the license to approve a revised ET cover design for the LTP and change three license conditions to reflect the revised decommissioning schedule. HMC would obtain soil and rock from the west and north borrow areas and from rock stockpiles located west of the LTP to implement the ET cover design. HMC estimates that 1,090,331.7 cubic meters (m³) (1,426,100 cubic yards [yd³]) of soil and rock are needed for the proposed ET cover design, and that approximately 2,953,643.7 m³ (3,230,144 yd³) of soil and rock are available in the north and west borrow areas. An additional 344,101 m³ (450,067 yd³) of 3 centimeters (cm) (1.2 inches [in]) and 12 cm (4.7 in) of rock is available in one rock stockpile. The second rock stockpile would serve as a temporary laydown area for rocks being replaced on the LTP. Excavation of the west borrow area would not exceed a depth of 2.7 meters (m) (9 feet [ft]) below ground surface and excavation of the north borrow area would not exceed a depth of 1.5 m (5 ft) below ground surface. HMC would sort excavated soil and rock and stockpile sorted material adjacent to each borrow area. HMC would temporarily use unpaved haul roads between the north and west borrow areas and the rock stockpiles. HMC estimates that the proposed action would take less than six months to complete.

The proposed action is in accordance with the licensee's application dated July 28, 2024, as supplemented by additional information dated July 12, 2024, October 4, 2024, and June 3, 2025.

Need for the Proposed Action

The purpose of and need for the agency action is to facilitate an LTP ET cover design that protects human health and the environment from actual or potential releases of LTP material. The proposed action, as described in the revised license amendment request (LAR) and in responses to the NRC staff's requests for additional information, is HMC's preferred ET cover design to complete decommissioning and reclamation of the GRP site.

Environmental Impacts of the Proposed Action

The NRC staff assessed the impacts of the proposed action and concluded that, as detailed in the revised design, installing the proposed LTP ET cover would limit surface water infiltration to the LTP and radon emission from the LTP, as well as provide long-term erosional stability to the LTP's cover. The NRC staff also concluded that the proposed action would not have significant impacts on land use, visual and scenic resources, the geologic environment, surface water resources, air quality, noise, socioeconomic conditions, public and occupational health, transportation, and waste generation and management.

The NRC staff concluded, after consultation with the New Mexico State Historic Preservation Office and Native American Tribes, that the proposed action would not cause effects on resources that are eligible for listing on the National Register of Historic Places and that no Tribal cultural resources have been identified or are known to exist on the site. HMC will plan land disturbance activities so that appropriate fences and boundaries are maintained around eligible or undetermined sites, and if cultural resources are uncovered during excavation activities, an archaeologist will be contacted to conduct a survey of the site to ensure features of significance are protected.

In consultation with the New Mexico Ecological Services Field Office of the U.S. Fish and Wildlife Service and the New Mexico Department of Game and Fish, the NRC staff concluded that the proposed action may affect but is not likely to adversely affect six threatened, endangered, or proposed terrestrial animal species, and would not affect two threatened terrestrial plant species or critical habitats. Aquatic or diverse riparian habitat and aquatic species are not present in the proposed project area, and aquatic resources would not be affected. Finally, the NRC staff found that the LTP cover modification would not result in an increased radiological risk to public health or the environment.

Environmental Impacts of the Alternatives to the Proposed Action

As an alternative to the proposed action, the staff considered denial of the proposed action (i.e., the “no-action” alternative). Under the no-action alternative, the NRC would not approve the modification of the LTP cover design or the license amendment request because regulatory requirements have not been met. If the LAR were not approved, the licensee would likely construct the approved cover design under the current license conditions. The impacts from the no-action alternative ultimately would be similar to the impacts of the proposed action described in the EA. The NRC staff also considered offsite relocation of the LTP as an alternative to the proposed action, concluding the costs of relocating the pile would greatly outweigh benefits.

State Consultation

In accordance with its stated policy, the staff consulted with the New Mexico Environment Department (NMED), regarding the environmental impact of the proposed action. On August 7, 2025, the state official replied that NMED previously provided the NRC staff with comments regarding the effective depth of the evaporative cover system, compaction of near surface layers, erosion resistance over time and the thickness of the top layer as a growth media. NMED had no additional comments on the EA.

III. Finding of No Significant Impact

The NRC staff has prepared this EA as part of its review of the proposed action. On the basis of this EA, the NRC finds that there are no significant environmental impacts from the proposed action, and that preparation of an environmental impact statement is not warranted. Accordingly, the NRC has determined that a FONSI is appropriate. In accordance with 10 CFR 51.32(a)(4), this FONSI incorporates the EA set forth in this notice by reference.

IV. Availability of Documents

The documents identified in the following table are available to interested persons through one or more of the following methods, as indicated.

Document description | ADAMS accession No.
Environmental Assessment for the Homestake Mining Company of California Large Tailings Pile Evapotranspiration Cover Design License Amendment Request, dated December 1, 2025 | ML25225A218.
Homestake Mining Co.—Grants Reclamation Project—Request for Amendment to SUA-1471 for the Large Tailings Pile Evapotranspiration Cover Design, Request for License Amendment, dated July 28, 2023 | ML23222A171 (package).
Homestake Mining Co.—Response to NRC Request for Additional Information Regarding the Environmental Report in support of the Proposed Evapotranspiration Cover Design License Amendment Request NRC Docket No. 40-8903, License No. SUA 1471, dated July 12, 2024 | ML24197A248.
Homestake Mining Co.—Response to NRC Request for Additional Information Regarding the Proposed Evapotranspiration Cover Design License Amendment, dated October 7, 2024 | ML24283A192.
Homestake Mining Co.—Response to NRC Request for Additional Information and Revised Design Report, dated June 3, 2025 | ML25163A318 (package).
Comments from Joseph Fox, NMED—Draft Environmental Assessment: Homestake Mining Company of California Large Tailings Pile Evapotranspiration Cover Design License Amendment Request, dated August 7, 2025 | ML25223A125.

Dated: December 10, 2025.
For the Nuclear Regulatory Commission.
Robert Sun,
Chief, Environmental Project Management Branch 2, Division of Rulemaking, Environmental, and Financial Support, Office of Nuclear Material Safety and Safeguards.

[FR Doc. 2025-22692 Filed 12-11-25; 8:45 am]

BILLING CODE 7590-01-P